DEPARTMENT OF COMMERCE

International Trade Administration

[A-557-805]

Extruded Rubber Thread from Malaysia: Notice of Initiation of Changed Circumstances Review of the Antidumping Duty Order, Preliminary Results of Changed Circumstances Review, and Intent To Revoke Antidumping Duty Order

AGENCY: Import Administration, International Trade Administration, Department of Commerce.

ACTION: Notice of initiation and preliminary results of antidumping duty changed circumstances review, and intent to revoke antidumping duty order.

SUMMARY: In accordance with 19 CFR 351.216(b), Heveafil Sdn Bhd., Filmax Sdn. Bhd., and Heveafil USA Inc. (collectively “Heveafil”), a producer/exporter of subject merchandise and an interested party in this proceeding, filed a request for a changed circumstances review of the antidumping duty order on extruded rubber thread from Malaysia, as described below. In response to this request, the Department of Commerce is initiating a changed circumstances review and issuing a notice of intent to revoke the antidumping duty order on extruded rubber thread from Malaysia. Interested parties are invited to comment on these preliminary results.

EFFECTIVE DATE: March 9, 2004.

FOR FURTHER INFORMATION CONTACT: Irina Itkin or Elizabeth Eastwood, Office 2, AD/CVD Enforcement Group I, Import Administration, International Trade Administration, U.S. Department of Commerce, 14th Street and Constitution Avenue, NW., Washington, DC 20230; telephone: (202) 482-0656 or (202) 482-3874, respectively.

SUPPLEMENTARY INFORMATION:

Background

On October 7, 1992, the Department published in the Federal Register the antidumping duty order on extruded rubber thread from Malaysia. See Antidumping Duty Order and Amendment of Final Determination of Sales at Less Than Fair Value: Extruded Rubber Thread From Malaysia, 57 FR 46150 (Oct. 7, 1992). On January 23, 2004, Heveafil, a producer/exporter of subject merchandise and an interested party in this proceeding, requested that the Department revoke the antidumping duty order on extruded rubber thread from Malaysia through a changed circumstances review. According to Heveafil, one of the two U.S. companies producing the domestic like product, Globe Manufacturing Co., exited the extruded rubber thread business on March 17, 2000, leaving the other company, North American Rubber Thread Co., Inc. (North American), as the sole U.S. producer. Heveafil also asserted that in August 2003 North American filed Chapter 7 bankruptcy and ceased all business operations. Additionally, Heveafil asserted that although a third company, Thai Rubber Latex Corporation, purchased the assets of North American, it is moving much of the purchased production equipment to Thailand and has indicated that the remaining machinery will not be used for production. Based on these events, Heveafil contends that there is no longer any U.S. production of the domestic like product, and a changed circumstances review and revocation of the order are warranted.

Scope of the Review

The product covered by this review is extruded rubber thread. Extruded rubber thread is defined as vulcanized rubber thread obtained by extrusion of stable or concentrated natural rubber latex of any cross sectional shape, measuring from 0.18 mm, which is 0.007 inch or 140 gauge, to 1.42 mm, which is 0.056 inch or 18 gauge, in diameter. Extruded rubber thread is currently classifiable under subheading 4007.00.00 of the Harmonized Tariff Schedule of the United States (HTSUS). The HTSUS subheadings are provided for convenience and customs purposes. The written description of the scope of this review is dispositive.

Initiation of Changed Circumstances Review, Preliminary Results, and Intent To Revoke Antidumping Duty Order

Pursuant to sections 751(d)(1) and 782(h)(2) of the Tariff Act of 1930, as amended (the Act), the Department may revoke an antidumping or countervailing duty order based on a review under section 751(b) of the Act (i.e., a changed circumstances review). Section 751(b)(1) of the Act requires a changed circumstances review to be conducted upon receipt of a request which shows changed circumstances sufficient to warrant a review. Section 351.222(g) of the Department's regulations provides that the Department will conduct a changed circumstances review under 19 CFR 351.216 and may revoke an order (in whole or in part) if it determines that producers accounting for substantially all of the production of the domestic like product to which the order (or the part of the order to be revoked) pertains have expressed a lack of interest in the relief provided by the order, in whole or in part, or if changed circumstances exist sufficient to warrant revocation. In addition, in the event that the Department concludes that expedited action is warranted, 19 CFR 351.221(c)(3)(ii) permits the Department to combine the notices of initiation and preliminary results.

In this case, the Department finds that the information submitted provides sufficient evidence of changed circumstances to warrant a review. Therefore, in accordance with sections 751(d)(1) and 782(h)(2) of the Act, and 19 CFR 351.216 and 351.222(g), based on the information provided by Heveafil, we are initiating this changed circumstances review. Furthermore, since the information on record indicates there is no longer any U.S. production of the domestic like product, we determine that expedited action is warranted and we preliminarily determine that the continued relief provided by the order with respect to extruded rubber thread from Malaysia is no longer of interest to domestic interested parties. Because we have concluded that expedited action is warranted, we are combining these notices of initiation and preliminary results. Therefore, we are hereby notifying the public of our intent to revoke the antidumping duty order with respect to imports of extruded rubber thread from Malaysia.

If we make a final determination to revoke, we intend to instruct U.S. Customs and Border Protection (CBP) to liquidate without regard to antidumping duties, and to refund any estimated antidumping duties collected for all entries of extruded rubber thread from Malaysia, made on or after October 1, 2003, the first day of the most recent period of administrative review and the only period for which an administrative review has not been completed, in accordance with 19 CFR 351.222. We will also instruct CBP to pay interest on such refunds in accordance with section 778 of the Act. The current requirement for a cash deposit of estimated antidumping duties on extruded rubber thread from Malaysia will continue unless and until we publish a final determination to revoke.

Public Comment

Interested parties are invited to comment on these preliminary results. Parties who submit argument in this proceeding are requested to submit with the argument: (1) a statement of the issue, and (2) a brief summary of the argument. Any interested party may request a hearing within 10 days of the date of publication of this notice. Any hearing, if requested, will be held no later than 25 days after the date of publication of this notice, or the first workday thereafter. Case briefs may be submitted by interested parties not later than 15 days after the date of publication of this notice. Rebuttal briefs, limited to the issues raised in the case briefs, may be filed not later than 20 days after the date of publication of this notice. All written comments shall be submitted in accordance with 19 CFR 351.303. Persons interested in attending the hearing should contact the Department for the date and time of the hearing. The Department will publish the final results of this changed circumstances review, including the results of its analysis of issues raised in any written comments.

This notice is in accordance with sections 751(b)(1) and 777(i)(1) of the Act and 19 CFR 351.216 and 351.222.

Dated: March 3, 2004.
James J. Jochum,
Assistant Secretary for Import Administration.

[FR Doc. 04-5278 Filed 3-8-04; 8:45 am]

BILLING CODE 3510-DS-S